SECURITIES AND EXCHANGE COMMISSION

Sunshine Act Meetings

Notice is hereby given, pursuant to the provisions of the Government in the Sunshine Act, Pub. L. 94-409, that the Securities and Exchange Commission will hold the following meetings during the week of April 8, 2002: A closed meeting will be held on Wednesday, April 10, 2002 at 9:30 a.m. and an open meeting will be held on Thursday, April 11, 2002 at 10:00 a.m., in Room 1C30, the William O. Douglas Room.

Commissioner Glassman, as duty officer, determined that no earlier notice thereof was possible.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(5), (7), (9)(B), and (10) and 17 CFR 200.402(a)(5), (7), (9)(ii) and (10), permit consideration of the scheduled matters at the closed meeting.

The subject matter of the closed meeting scheduled for Wednesday, April 10, 2002, will be: formal orders of private investigation; institution and settlement of injunctive actions; and institution and settlement of administrative proceedings of an enforcement nature.

The subject matter of the open meeting scheduled for Thursday, April 11, 2002, will be:

1. The Commission will consider a proposal to amend the definition of “equity security” in rules under the Securities Act of 1933 and the Securities Exchange Act of 1934 to include a security future. The proposed amendment would conform the definitions to the statutory changes made by the Commodity Futures Modernization Act of 2000 to the definition of “security” in the Securities Act and definitions of “security” and “equity security” in the Exchange Act with respect to security futures.

2. The Commission will consider proposals to accelerate the filing of Exchange Act quarterly and annual reports. The proposals also would require companies to disclose in their annual reports whether they provide access to their annual, quarterly and current reports on Form 8-K on their websites. If a company does not provide website access to its reports, it would have to state the reasons why it does not provide such access. The proposed amendments are part of the changes to the corporate disclosure rules that the Commission announced its intention to propose in Press Release 2002-22 on February 13, 2002.

3. The Commission will consider proposing amendments to Exchange Act Form 8-K, the form companies use to file current reports. The proposed amendments would require companies with a class of equity securities registered under Section 12 of the Exchange Act to report on Form 8-K: (1) directors' and executive officers' transactions in company equity securities; (2) directors' and executive officers' arrangements for the purchase and sale of company equity securities intended to satisfy the affirmative defense conditions of Exchange Act Rule 10b5-1; and (3) loans of money to a director or executive officer made or guaranteed by the company collateralized by the director's or executive officer's company equity securities. The proposed amendments are part of the changes to the corporate disclosure rules that the Commission announced its intention to propose in Press Release 2002-22 on February 13, 2002.

4. The Commission will consider whether to propose new rule 203A-2(f) under the Investment Advisers Act of 1940, which would permit certain investment advisers that provide advisory services through interactive Internet websites to register with the Commission instead of state securities authorities.

5. The Commission will consider whether to adopt a new registration form, Form N-6, for insurance company separate accounts registered as unit investment trusts that offer variable life insurance policies. The form is to be used by these separate accounts to register under the Investment Company Act of 1940 and to offer their securities under the Securities Act of 1933. The form would focus prospectus disclosure on essential information that will assist investors in deciding whether to invest in a particular variable life insurance policy, and would streamline the registration process by replacing two forms that were not specifically designed for variable life insurance policies with a single form tailored to these products. The Commission will also consider whether to adopt an amendment to Form N-1A, the form used by mutual funds to register under the Investment Company Act and to offer their shares under the Securities Act, to require a fee table for mutual funds that offer their shares as investment options exclusively for variable life insurance policies and variable annuity contracts.

6. The Commission will consider whether to propose amendments to Form N-4, the registration form for insurance company separate accounts that are registered as unit investment trusts and that offer variable annuity contracts. The proposed amendments would revise the format of the fee table of Form N-4 to require disclosure of the range of expenses for all of the mutual funds offered through the separate account, rather than disclosure of the expenses of each fund. These and other proposed technical amendments to the fee table would conform the treatment of fund expenses in Form N-4 to that in proposed Form N-6, a registration form for variable life insurance policies that will be considered for adoption by the Commission, and Form N-1A, the registration form used by mutual funds.

At times, changes in Commission priorities require alterations in the scheduling of meeting items. For further information and to ascertain what, if any, matters have been added, deleted or postponed, please contact: the Office of the Secretary at (202) 942-7070.

Dated: April 4, 2002.
Margaret H. McFarland,
Deputy Secretary.

[FR Doc. 02-8513 Filed 4-4-02; 11:18 am]

BILLING CODE 8010-01-P